DEPARTMENT OF DEFENSE

Department of the Army

[Docket ID USA-2009-0025]

Privacy Act of 1974; System of Records

AGENCY: Department of the Army, DoD.

ACTION: Notice to add a system of records.

SUMMARY: The Department of the Army is proposing to add a system of records to its existing inventory of records systems subject to the Privacy Act of 1974, (5 U.S.C. 552a), as amended.

DATES: The proposed action will be effective on October 22, 2009 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Leroy Jones, Jr. at (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on September 4, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: September 11, 2009.
Patricia L. Toppings,
OSD Federal Register Liaison Officer, Department of Defense.

A0500-5-1 DAMO

SYSTEM NAME:

Worldwide Individual Augmentation System.

SYSTEM LOCATION:

Army Operation Center, The Pentagon, Room BG849, Washington, DC 20310-0400.

CATEGORIES OF INDIVIDUALS COVERED BY THE SYSTEM:

All military and civilian personnel assigned to fill individual augmentation requirements.

CATEGORIES OF RECORDS IN THE SYSTEM:

Files contain personnel information extracted from official personnel and manpower authorization files, that include name; grade/rank; Social Security Number (SSN); gender; military occupational skills and/or civilian occupational series; additional skill identifiers; security clearance; current unit of assignment; deployment eligibility; Service component; mobilization date, location, and history; Worldwide Individual Augmentation System (WIAS) control number; portions of the Army manning document from the Joint Operations Manning Document.

AUTHORITY FOR MAINTENANCE OF THE SYSTEM:

10 U.S.C. 151, Joint Chiefs of Staff: Composition; functions; 10 U.S.C. 153, Chairman: functions; 10 U.S.C. 162 Combatant commands: assigned forces; chain of command; 10 U.S.C. 164 Commanders of combatant commands: assignment; powers; 10 U.S.C. 167 Unified combatant command for special operations; 10 U.S.C. 3013 Secretary of the Army; 10 U.S.C. 5031, Office of the Chief of Naval Operations: function; 10 U.S.C. 8031 The Air Staff: function; composition; 10 U.S.C. 12301, Reserve components generally; 10 U.S.C. 12302 Ready Reserve; 10 U.S.C. 12304 Selected Reserve and certain Individual Ready; Joint Publications 1-0 Personnel Support to Joint Operations, 2-0 Joint Intelligence, 3-0 Joint Operations, and 5-0 Joint Operation Planning; and E.O. 9397 (SSN), as amended.

PURPOSE(S):

To document Army manning documents and managing individual augmentation requirements, sourcing, and accountability. The Worldwide Individual Augmentation System will be used by authorized officials within the Army in performing all administrative functions as appropriate with respect to personnel assigned against recorded individual augmentation requirements in the system; for monitoring and processing requests for manpower; performing organizational and manpower reviews; and for processing personnel taskings requested by the Army and required for the individual.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the Department of Defense as a routine use pursuant to 5 U.S.C. 552a(b)(3) as follows:

The DoD ‘Blanket Routine Uses' published at the beginning of the Army's compilation of record system notices apply to this system.

POLICIES AND PRACTICES FOR STORING, RETRIEVING, ACCESSING, RETAINING, AND DISPOSING OF RECORDS IN THE SYSTEM:

STORAGE:

Electronic storage media.

RETRIEVABILITY:

Retrieved by name, Social Security Number (SSN), and/or any combination of the data fields described in categories of records.

SAFEGUARDS:

Access to this record system is restricted to authorized personnel in performance of official duties. Entry into the system is controlled by randomly generated passwords changed every 90 days. The system employs secure socket layer certificate and the Social Security Number (SSN) data is encrypted to provide further protection from unauthorized access to personal data.

RETENTION AND DISPOSAL:

Deployment records are retained for 10 years. Personnel records are deleted by erasing when no longer needed.

SYSTEM MANAGER(S) AND ADDRESS:

Chief, Individual Augmentation Branch, Current Operations Division, Headquarters, Department of the Army, G3/5/7, Army Operations Center, Washington, DC 20310-0400.

NOTIFICATION PROCEDURE:

Individuals seeking to determine if information about themselves is contained in this system should address written inquiries to the Chief, Individual Augmentation Branch, Current Operations Division, Headquarters, Department of the Army, G3/5/7, Army Operations Center, Washington, DC 20310-0400, or the commander or supervisor of organization to which the individual is/was assigned or employed. Official mailing addresses are published as an appendix to the Army's compilation of systems of records notices.

Individual should provide full name, Social Security Number (SSN) and military status, and other information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

RECORD ACCESS PROCEDURES:

Individuals seeking access to information about themselves contained in this system should address written inquiries to the Chief, Individual Augmentation Branch, Current Operations Division, Headquarters, Department of the Army, G3/5/7, Army Operations Center, Washington, DC 20310-0400, or to the commander or supervisor of organization to which individual is/was assigned or employed. Official mailing addresses are published as an appendix to the Army's compilation of systems of records notices.

Individual should provide full name, Social Security Number (SSN) and military status, and information verifiable from the record itself.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).’

If executed within the United States, its territories, possessions, or commonwealths: ‘I declare (or certify, verify, or state) under penalty of perjury that the foregoing is true and correct. Executed on (date). (Signature).'

CONTESTING RECORD PROCEDURES:

The Army's rules for accessing records and for contesting contents and appealing initial agency determinations are contained in Army Regulation 340-21; Title 32 CFR part 505; or may be obtained from the system manager.

RECORD SOURCE CATEGORIES:

Source of information is from the individual and the individual's official personnel file, Total Army Personnel Database system, The Army Authorization Document System, Department of the Army Civilian Personnel System, Defense Integrated Military Human Resource System, and the integrated Total Army Personnel Database system.

EXEMPTIONS CLAIMED FOR THE SYSTEM:

None.

[FR Doc. E9-22789 Filed 9-21-09; 8:45 am]

BILLING CODE 5001-06-P